ENVIRONMENTAL PROTECTION AGENCY

[ER-FRL-9029-3]

Environmental Impact Statements; Notice of Availability

Responsible agency: Office of Federal Activities, General Information (202) 564-7146 or http://www.epa.gov/nepa.

Weekly receipt of Environmental Impact Statements (EISs)

Filed 09/19/2016 Through 09/23/2016

Pursuant to 40 CFR 1506.9.

Notice

Section 309(a) of the Clean Air Act requires that EPA make public its comments on EISs issued by other Federal agencies. EPA's comment letters on EISs are available at: http://www.epa.gov/compliance/nepa/eisdata.html.

EIS No. 20160213, Final, USFS, WA, Forest-wide Site-Specific Invasive Plant Management, Review Period Ends: 10/31/2016, Contact: Brigitte Ranne 509-682-4941

EIS No. 20160214, Draft, BLM, ID, Craters of the Moon National Monument and Preserve Draft Management Plan Amendment, Comment Period Ends: 12/29/2016, Contact: Lisa Cresswell 208-732-7270

EIS No. 20160215, Draft, USFS, PR, El Yunque National Forest Plan Revision, Comment Period Ends: 12/29/2016, Contact: Pedro Rios 787-888-1880

EIS No. 20160216, Final, HUD, NY, Lambert Houses Redevelopment, Review Period Ends: 10/31/2016, Contact: Aaron Werner 212-863-5953. City of New York Department of Housing Preservation and Development is lead agency for this project.

EIS No. 20160217, Draft, USFS, ID, Sawtooth and Boise National Forest Invasive Species Project, Comment Period Ends: 11/14/2016, Contact: Carol Brown 208-622-0098

EIS No. 20160218, Draft, BR, AZ, Navajo Generating Station-Kayenta Mine Complex Project, Comment Period Ends: 11/29/2016, Contact: Sandra Eto 623-773-6254

EIS No. 20160219, Final, NRC, MI, Generic—License Renewal of Nuclear Plants Supplement 56 Regarding Fermi 2 Nuclear Power Plant, NUREG-1437, Review Period Ends: 10/31/2016, Contact: Elaine M. Keegan 301-415-8517

EIS No. 20160220, Draft, APHIS, REG, Petition (15-300-01p) for Determination of Nonregulated Status for ASR368 Creeping Bentgrass, Comment Period Ends: 11/14/2016, Contact: Sidney W. Abel 301-851-3896

EIS No. 20160221, Draft Supplement, USN, CA, Land Acquisition and Airspace to Support Large-Scale MAGTF Live-Fire and Maneuver Training at MCAGCC Twentynine Palms, Comment Period Ends: 11/14/2016, Contact: Scott Kerr 760-830-3737

EIS No. 20160222, Draft, BOEM, LA, Gulf of Mexico OCS, Proposed Geological and Geophysical Activities, Comment Period Ends: 11/29/2016, Contact: Dr. Jill Lewandowski 703-787-1703

EIS No. 20160223, Final, DOE, LA, Adoption—Magnolia LNG and Lake Charles Expansion Projects, Contact: John Anderson 202-586-0521. The U.S Department of Energy (DOE) has adopted the Federal Energy Regulatory Commission's FEIS #20150325, filed with the U.S. EPA on 11/13/2015. DOE was a cooperating agency on the project. Therefore, recirculation of the document is not necessary under Section 1506.3(c) of the CEQ Regulations

EIS No. 20160224, Draft, AFS, CO, La Garita Hills Restoration Project, Comment Period Ends: 11/14/2016, Contact: Diana McGinn 719-852-6241

Amended Notices

EIS No. 20160211, Final, USAF, GU, Divert Activities and Exercises, Commonwealth of the Northern Mariana Islands, Review Period Ends: 10/25/2016, Contact: Mark Petersen 808-449-1078

Revision to FR Notice Published 09/26/2016; Correction to the Review Period to End 10/25/2016.

Dated: September 27, 2016
Dawn Roberts,
Management Analyst, NEPA Compliance Division, Office of Federal Activities.

[FR Doc. 2016-23703 Filed 9-29-16; 8:45 am]

BILLING CODE 6560-50-P